DEPARTMENT OF COMMERCE

National Oceanic and Atmospheric Administration

RIN: 0648-XL15

Pacific Fishery Management Council; Public Meeting

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet November 1-7, 2008. The Council meeting will begin on Sunday, November 2, at 1 p.m., reconvening each day through Friday, November 7. All meetings are open to the public, except a closed session will be held from 1 p.m. until 2 p.m. on Sunday, November 2 to address litigation and personnel matters. The Council will meet as late as necessary each day to complete its scheduled business.

ADDRESSES: The meetings will be held at the Town and Country Resort and Convention Center, 500 Hotel Circle North, San Diego, CA 92108; telephone: (619) 291-7131.

Council address: Pacific Fishery Management Council, 7700 NE Ambassador Place, Suite 101, Portland, OR 97220.

FOR FURTHER INFORMATION CONTACT: Dr. Donald O. McIsaac, Executive Director; telephone: (503) 820-2280.

SUPPLEMENTARY INFORMATION: The following items are on the Council agenda, but not necessarily in this order:

A. Call to Order

1. Opening Remarks and Introductions

2. Roll Call

3. Executive Director's Report

4. Approve Agenda

B. Open Comment Period

Comments on Non-Agenda Items

C. Pacific Halibut Management

1. Final Changes to Catch Sharing Plan and Annual Regulations for 2009

2. Pacific Halibut Catch Apportionment Methodology

D. Salmon Management

Salmon Methodology Review

E. Highly Migratory Species Management

1. National Marine Fisheries Service Report

2. Council Recommendations to the Northern Committee of the Western and Central Pacific Fisheries Commission

3. Final Changes to Routine Management Measures for 2009-2010 Season

F. Groundfish Management

1. Consideration of Inseason Adjustments

2. National Marine Fisheries Service Report

3. Fishery Management Plan Amendment 20-Trawl Rationalization

4. Final Consideration of Inseason Adjustments (if needed)

G. Coastal Pelagic Species Management

1. Stock Assessment Review (STAR) Panel Terms of Reference for 2009

2. Pacific Sardine Stock Assessment and Management Measures

H. Administrative Matters

1. Approval of Council Meeting Minutes

2. Fiscal Matters

3. Membership Appointments and Council Operating Procedures

4. Future Council Meeting Agenda and Workload Planning

Schedule of Ancillary Meetings
Saturday, November 1, 2008 |
Scientific and Statistical Committee | 1 p.m
Sunday, November 2, 2008 |
Council Secretariat | 7 a.m
Highly Migratory Species Advisory Subpanel and Highly Migratory Species Management Team (Joint Session) | 8 a.m
Scientific and Statistical Committee | 8 a.m
Budget Committee | 9 a.m
Highly Migratory Species Advisory Subpanel | 10:30 a.m
Highly Migratory Species Management Team | 10:30 a.m
Groundfish Advisory Subpanel | 1 p.m
Groundfish Management Team | 1 p.m
Annual Chair's Banquet | 6 p.m
Monday, November 3, 2008 |
Council Secretariat | 7 a.m
California State Delegation | 7 a.m
Oregon State Delegation | 7 a.m
Washington State Delegation | 7 a.m
Enforcement Consultants | 8 a.m
Groundfish Advisory Subpanel | 8 a.m
Groundfish Management Team | 8 a.m
Highly Migratory Species Advisory Subpanel | 8 a.m
Highly Migratory Species Management Team | 8 a.m
Scientific and Statistical Committee | 8 a.m
Tuesday, November 4, 2008 |
Council Secretariat | 7 a.m
California State Delegation | 7 a.m
Oregon State Delegation | 7 a.m
Washington State Delegation | 7 a.m
Enforcement Consultants | 8 a.m
Groundfish Advisory Subpanel | 8 a.m
Groundfish Management Team | 8 a.m
Wednesday, November 5, 2008 |
Council Secretariat | 7 a.m
California State Delegation | 7 a.m
Oregon State Delegation | 7 a.m
Washington State Delegation | 7 a.m
Groundfish Advisory Subpanel | 8 a.m
Groundfish Management Team | 8 a.m
Enforcement Consultants | 8 a.m
Thursday, November 6, 2008 |
Council Secretariat | 7 a.m
California State Delegation | 7 a.m
Oregon State Delegation | 7 a.m
Washington State Delegation | 7 a.m
Groundfish Advisory Subpanel | 8 a.m
Enforcement Consultants | As needed
Friday, November 7, 2008 |
Council Secretariat | 7 a.m
California State Delegation | 7 a.m
Oregon State Delegation | 7 a.m
Washington State Delegation | 7 a.m

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 820-2280 at least 5 days prior to the meeting date.

Dated: October 7, 2008.
Tracey L. Thompson,
Acting Director, Office of Sustainable Fisheries, National Marine Fisheries Service.

[FR Doc. E8-24214 Filed 10-10-08; 8:45 am]

BILLING CODE 3510-22-S